SMALL BUSINESS ADMINISTRATION

North Florida District Advisory Council; Notice of Federal Advisory Public Meeting

The U.S. Small Business Administration North Florida District Advisory Council located in Jacksonville, Florida, will host a public federal advisory meeting on Thursday, March 29, 2007 at 12 p.m. EST. The meeting will be held at the Governor's Club located at 202½ South Adams Street, Tallahassee, FL 32301.

The purpose of the meeting is to discuss board briefings and an overview of SBA loans and FY 2007 goals presented by Mark Wilson, Executive Vice President, Florida Chamber of Commerce.

The meeting is open to the public. Anyone wishing to make an oral presentation to the Board must contact Wilfredo J. Gonzalez, District Director, in writing by letter or fax no later than Monday, March 26, 2007, in order to be placed on the agenda. Wilfredo J. Gonzalez, District Director, U.S. Small Business Administration, 7825 Baymeadows Way, Suite 100B, Jacksonville, FL 32256 telephone (904) 443-1900; or fax (904) 443-1980.

Matthew Teague,
Committee Management Officer.

[FR Doc. E7-5081 Filed 3-20-07; 8:45 am]

BILLING CODE 8025-01-P